ENVIRONMENTAL PROTECTION AGENCY

40 CFR Part 52

[EPA-R09-OAR-2019-0655; FRL-10012-28-Region 9]

Air Plan Approval; California; San Joaquin Valley Unified Air Pollution Control District and Feather River Air Quality Management District

Correction

In Rule document 2020-17181, appearing on pages 56521-56525, in the issue of Monday, September 14, 2020, make the following correction:

On page 56521, in the second column, the document heading is corrected to read as set forth above.

[FR Doc. C1-2020-17181 Filed 9-22-20; 8:45 am]

BILLING CODE 1301-00-D